DEPARTMENT OF THE INTERIOR

Bureau of Land Management

[CO-923-06-5870-HN]

Request for Public Nomination of Qualified Properties for Potential Purchase by the Federal Government in the State of Colorado

AGENCY: Bureau of Land Management, Interior.

ACTION: Notice of request for public nomination of qualified properties for potential purchase by the Federal Government in the State of Colorado.

SUMMARY: In accordance with the Federal Land Transaction Facilitation Act of 2000 (43 U.S.C. 2303) (FLTFA), this notice provides the public the opportunity to nominate lands within the State of Colorado for possible acquisition by the Federal Government acting through the federal agencies identified below. Such lands must be (1) inholdings within a federally designated area or (2) lands that are adjacent to federally designated areas and contain exceptional resources.

DATES: Nominations may be submitted at any time following the publication of this notice.

ADDRESSES: Nominations should be mailed to the attention of the FLTFA Program Manager for the agency listed below having jurisdiction over the pertinent federally designated area:

• Bureau of Land Management, Colorado State Office (CO-923), 2850 Youngfield St., Lakewood, CO 80215-7093.

• National Park Service, Intermountain Region, P.O. Box 728, Santa Fe, NM 87504-0728.

• U.S. Fish and Wildlife Service, Mountain Prairie Region, P.O. Box 25486, DFC, Lakewood, CO 80225-0486.

• USDA Forest Service, Rocky Mountain Region, P.O. Box 25127, Lakewood, CO 80225.

• USDA Forest Service, Intermountain Region, 324 25th St., Ogden, UT 84401.

FOR FURTHER INFORMATION CONTACT: John D. Beck, FLTFA Program Manager, Bureau of Land Management (BLM), Colorado State Office (CO-932), 2850 Youngfield St., Lakewood, CO 80215-7093, (303) 239-3882, or e-mail john_beck@blm.gov.

SUPPLEMENTARY INFORMATION: In accordance with the FLTFA, the four agencies noted above are offering to the public at large the opportunity to nominate lands in the State of Colorado that meet FLTFA eligibility requirements for possible Federal acquisition. Under the provisions of FLTFA, only the following lands are eligible for nomination: (1) Inholdings within a federally designated area, or (2) lands that are adjacent to federally designated areas and contain exceptional resources.

An inholding is any right, title, or interest held by a non-Federal entity, in or to a tract of land that lies within the boundary of a federally designated area.

A federally designated area is land that on July 25, 2000, was within the boundary of: a unit of the National Park System; a unit of the National Wildlife Refuge System; an area of the National Forest System designated for special management by an act of Congress; a national monument, national conservation area, national riparian conservation area, national recreation area, national scenic area, research natural area, national outstanding natural area, national natural landmark, or an area of critical environmental concern managed by the Bureau of Land Management; a wilderness or wilderness study area; or a component of the Wild and Scenic Rivers System or National Trails Systems. If you are not sure whether a particular area meets the statutory definition of a federally designated area in FLTFA, you should consult the statute or contact the BLM at the above address.

An exceptional resource refers to a resource of scientific, natural, historic, cultural, or recreational value that has been documented by a Federal, State, or local government authority, and for which there is a compelling need for conservation and protection under the jurisdiction of a Federal agency in order to maintain the resource for the benefit of the public.

Nominations meeting the above criteria may be submitted by any individual, group, or governmental body. If submitted by a party other than the landowner, the landowner must also sign the nomination to confirm the landowner's willingness to sell. Pursuant to FLTFA, nominations will only be considered eligible by the concerned Federal agencies if: (1) The nomination package is complete; (2) acquisition of the nominated land or interest in land would be consistent with an agency's approved land use plan; (3) the land does not contain a hazardous substance and is not otherwise contaminated and would not be difficult or uneconomic to manage as Federal lands; and (4) acceptable title can be conveyed in accordance with Federal title standards. Priority will be placed on nominations for areas where there is no local or tribal government objection to Federal acquisition. Nominations may be made at any time following publication of this notice and will continue to be accepted for consideration during the life of the FLTFA, which ends on July 24, 2010, unless extended by Act of Congress.

A nomination expresses only a landowner's good faith desire to sell. It does not impose a legally enforceable commitment on either the landowner or the Federal Government. A landowner may withdraw a nomination at any time by, in writing, so notifying the Program Manager who initially received the nomination.

Further information, including the required contents of a nomination package and details of the Colorado Interagency Implementation Agreement, may be obtained by contacting John Beck at the aforementioned address and phone number.

Dated: June 9, 2006.
Douglas M. Koza,
Associate State Director, Colorado.

[FR Doc. E6-12611 Filed 8-3-06; 8:45 am]

BILLING CODE 4310-JB-P